DEPARTMENT OF THE INTERIOR

National Park Service

Notice of Inventory Completion: Alaska State Office of History and Archaeology, Anchorage, AK, and Alutiiq Museum and Archaeological Repository, Kodiak, AK

AGENCY: National Park Service, Interior.

ACTION: Notice.

Notice is here given in accordance with the Native American Graves Protection and Repatriation Act (NAGPRA), 25 U.S.C. 3003, of the completion of an inventory of human remains in the control of the Alaska State Office of History and Archaeology, Anchorage, AK and in the possession of the Alutiiq Museum and Archaeological Repository, Kodiak, AK. The human remains were removed from Pasagshak Point site (49-KOD-00213), Kodiak Island, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made on behalf of the Alaska State Office of History and Archaeology by Alutiiq Museum and Archaeological Repository professional staff in consultation with representatives of Natives of Kodiak, Inc.; Koniag, Inc.; Leisnoi, Inc.; Lesnoi Village (aka Woody Island); and Sun'aq Tribe of Kodiak (formerly the Shoonaq' Tribe of Kodiak).

In September 1992, human remains representing a minimum of one individual were removed from the Pasagshak Point site (49-KOD-00213), Kodiak Island, AK, by Dr. Richard Knecht. Dr. Knecht took the human remains to the Kodiak Area Native Association's Alutiiq Culture Center. In 1995, the human remains were transferred to the Alutiiq Museum and Archaeological Repository where they are currently stored (number AM63). No known individual was identified. No associated funerary objects are present.

The Pasagshak Point archeological site is on State of Alaska land. The Pashagshak Point site is a prehistoric settlement at the mouth of Ugak Bay on the southeastern coast of the Kodiak archipelago. The site has deep, well-preserved midden that dates to the Koniag Tradition, the cultural phase that directly preceded European contact. As such, the human remains from the site are presumed to be Native American and most closely related to the contemporary Kodiak Alutiiq people. Specifically, the human remains are from an area of the Kodiak archipelago traditionally used by members of the Lesnoi Village (aka Woody Island) and Sun'aq Tribe of Kodiak.

Officials of the Alaska State Office of History and Archaeology and Alutiiq Museum and Archaeological Repository have determined that, pursuant to 25 U.S.C. 3001 (9-10), the human remains described above represent the physical remains of one individual of Native American ancestry. Officials of the Alaska State Office of History and Archaeology and the Alutiiq Museum and Archaeological Repository also have determined that, pursuant to 25 U.S.C. 3001 (2), there is a relationship of shared group identity that can be reasonably traced between the Native American human remains and Natives of Kodiak, Inc.; Koniag, Inc.; Leisnoi, Inc.; Lesnoi Village (aka Woody Island); and Sun'aq Tribe of Kodiak.

Representatives of any other Indian tribe that believes itself to be culturally affiliated with the human remains should contact Dr. Sven Haakanson, Jr., Executive Director, Alutiiq Museum and Archaeological Repository, 215 Mission Rd., Suite 101, Kodiak, AK 99615, telephone (907) 486-7004, before September 24, 2007. Repatriation of the human remains to the Natives of Kodiak, Inc.; Koniag, Inc.; Leisnoi, Inc.; Lesnoi Village (aka Woody Island); and Sun'aq Tribe of Kodiak may proceed after that date if no additional claimants come forward.

The Alutiiq Museum and Archaeological Repository is responsible for notifying Natives of Kodiak, Inc.; Koniag, Inc.; Leisnoi, Inc.; Lesnoi Village (aka Woody Island); and Sun'aq Tribe of Kodiak that this notice has been published.

Dated: August 3, 2007
Sherry Hutt,
Manager, National NAGPRA Program.

[FR Doc. E7-16781 Filed 8-23-07; 8:45 am]

BILLING CODE 4312-50-S